CONSUMER PRODUCT SAFETY COMMISSION

16 CFR Part 1240

[CPSC Docket No. CPSC-2006-0057]

Portable Generators; Notice of Opportunity for Oral Presentation of Comments

AGENCY: Consumer Product Safety Commission.

ACTION: Notice of opportunity for oral presentation of comments.

SUMMARY: The Consumer Product Safety Commission (CPSC, Commission) announces that there will be an opportunity for interested persons to present oral comments on the notice of proposed rulemaking (NPR) the Commission issued proposing a standard that limits carbon monoxide (CO) emissions from operating portable generators. Any oral comments will be part of the rulemaking record.

DATES: The meeting will begin at 10 a.m., March 8, 2017, in the Hearing Room, 4th Floor of the Bethesda Towers Building, 4330 East-West Highway, Bethesda, MD 20814. Requests to make oral presentations and the written text of any oral presentations must be received by the Office of the Secretary not later than 5 p.m. Eastern Standard Time (EST) on March 1, 2017.

ADDRESSES: The meeting will be in the Hearing Room, 4th Floor of the Bethesda Towers Building, 4330 East-West Highway, Bethesda, MD 20814. Requests to make oral presentations, and texts of oral presentations, should be captioned: “Portable Generator NPR; Oral Presentation” and submitted by email to cpsc-os@cpsc.gov, or mailed or delivered to the Office of the Secretary, Consumer Product Safety Commission, 4330 East-West Highway, Bethesda, MD 20814, not later than 5 p.m. EST on March 1, 2017.

FOR FURTHER INFORMATION CONTACT: For information about the purpose or subject matter of this meeting, contact Janet Buyer, Project Manager, Directorate for Engineering Sciences, Consumer Product Safety Commission, 5 Research Place, Rockville, MD 20850; telephone (301) 987-2293; jbuyer@cpsc.gov. For information about the procedure to make an oral presentation, contact Rockelle Hammond, Office of the Secretary, Consumer Product Safety Commission, 4330 East-West Highway, Bethesda, MD 20814; telephone (301) 504-7923.

SUPPLEMENTARY INFORMATION:

A. Background

In December 2006, the Commission issued an advance notice of proposed rulemaking (ANPR) to consider whether there may be an unreasonable risk of injury and death associated with portable generators (71 FR 74472 (December 12, 2006)). On November 21, 2016, the Commission published an NPR that would limit the CO emissions from operating generators. Specifically, the NPR would require that portable generators powered by handheld spark-ignition (SI) engines and Class I SI engines not exceed a weighted CO emission rate of 75 grams per hour (g/hr); generators powered by one-cylinder, Class II SI engines must not exceed a weighted CO emission rate of 150 g/hr; and generators powered by Class II SI engines with two cylinders must not exceed a weighted emission rate of 300 g/hr. 81 FR 83556 (November 21, 2016). These requirements would be issued under the Consumer Product Safety Act (CPSA). The NPR is available at: https://www.gpo.gov/fdsys/pkg/FR-2016-11-21/pdf/2016-26962.pdf. The staff's briefing package is available at: https://www.cpsc.gov/s3fs-public/Proposed_Rule_Safety_Standard_for_Portable_Generators_October_5_2016.pdf.

B. The Public Meeting

The CPSA requires that the Commission provide an opportunity for the “oral presentation of data, views, or arguments,” in addition to written comments, when the Commission develops a consumer product safety standard. 15 U.S.C. 2058(d)(2). Thus, the Commission is providing this forum for oral presentations concerning the proposed portable generator standard. See the information under the headings DATES and ADDRESSES at the beginning of this notice for information on making requests to give oral presentations at the meeting.

Participants should limit their presentations to approximately 10 minutes, exclusive of any periods of questioning by the Commissioners or CPSC staff. To prevent duplicative presentations, groups will be directed to designate a spokesperson. The Commission reserves the right to limit the time further for any presentation and impose restrictions to avoid excessive duplication of presentations, if necessary.

Dated: January 26, 2017.
Todd A. Stevenson,
Secretary, U.S. Consumer Product Safety Commission.

[FR Doc. 2017-02061 Filed 1-31-17; 8:45 am]

BILLING CODE 6355-01-P